DEPARTMENT OF HEALTH AND HUMAN SERVICES

Centers for Disease Control and Prevention

CDC/HRSA Advisory Committee on HIV and STD Prevention and Treatment

In accordance with section l0(a)(2) of the Federal Advisory Committee Act (Pub. L. 92-463), the Centers for Disease Control and Prevention (CDC) and the Health Resources and Services Administration (HRSA) announce the following committee meeting.

Times and Dates: 8 a.m.-5:30 p.m., November 15, 2011. 8 a.m.-3 p.m., November 16, 2011.

Place: The Legacy Hotel and Meeting Centre, 1775 Rockville Pike, Rockville, Maryland 20852, Telephone: (301) 881-2300.

Status: Open to the public, limited only by the space available. The meeting room will accommodate approximately 100 people.

Purpose: This Committee is charged with advising the Director, CDC and the Administrator, HRSA, regarding activities related to prevention and control of HIV/AIDS and other STDs, the support of health care services to persons living with HIV/AIDS, and education of health professionals and the public about HIV/AIDS and other STDs.

Matters To Be Discussed: Agenda items include: (1) National HIV/AIDS Strategy Implementation Update; (2) CHAC Workgroups Update; (3) Review and Response to the Urgent Threat of Gonorrhea Antimicrobial Resistance; (4) CDC Division of Adolescent School Health Overview; and (5) Recent HIV Prevention Trials Network Studies.

Agenda items are subject to change as priorities dictate.

Contact Person for More Information: Margie Scott-Cseh, CDC, National Center for HIV/AIDS, Viral Hepatitis, STD, and TB Prevention, 1600 Clifton Road, NE., Mailstop E-07, Atlanta, Georgia 30333, Telephone: (404) 639-8317.

The Director, Management Analysis and Services Office, has been delegated the authority to sign Federal Register Notices pertaining to announcements of meetings and other committee management activities, for both the Centers for Disease Control and Prevention and the Agency for Toxic Substances and Disease Registry.

Dated: October 20, 2011.
Elaine L. Baker,
Director, Management Analysis and Services Office, Centers for Disease Control and Prevention (CDC).

[FR Doc. 2011-27770 Filed 10-26-11; 8:45 am]

BILLING CODE 4163-18-P